DEPARTMENT OF HOUSING AND URBAN DEVELOPMENT

[Docket No. FR-4557-N-50]

Federal Property Suitable as Facilities to Assist the Homeless

AGENCY: Office of the Assistant Secretary for Community Planning and Development, HUD.

ACTION: Notice.

SUMMARY: This Notice identifies unutilized, underutilized, excess, and surplus Federal property reviewed by HUD for suitability for possible use to assist the homeless.

FOR FURTHER INFORMATION CONTACT: Clifford Taffet, room 7266, Department of Housing and Urban Development, 451 Seventh Street SW., Washington, DC 20410; telephone (202) 708-1234; TTY number for the hearing- and speech-impaired (202) 708-2565 (these telephone numbers are not toll-free), or call the toll-free Title V information line at 1-800-927-7588.

SUPPLEMENTARY INFORMATION: In accordance with 24 CFR part 581 and section 501 of the Stewart B. McKinney Homeless Assistance Act (42 U.S.C. 11411), as amended, HUD is publishing this Notice to identify Federal buildings and other real property that HUD has reviewed for suitability for use to assist the homeless. The properties were reviewed using information provided to HUD by Federal landholding agencies regarding unutilized and underutilized buildings and real property controlled by such agencies or by GSA regarding its inventory of excess or surplus Federal property. This Notice is also published in order to comply with the December 12, 1988 Court Order in National Coalition for the Homeless v. Veterans Administration, No. 88-2503-OG (D.D.C.).

Properties reviewed are listed in this Notice according to the following categories: Suitable/available, suitable/unavailable, suitable/to be excess, and unsuitable. The properties listed in the three suitable categories have been reviewed by the landholding agencies, and each agency has transmitted to HUD: (1) Its intention to make the property available for use to assist the homeless, (2) its intention to declare the property excess to the agency's needs, or (3) a statement of the reasons that the property cannot be declared excess or made available for use as facilities to assist the homeless.

Properties listed as suitable/available will be available exclusively for homeless use for a period of 60 days from the date of this Notice. Homeless assistance providers interested in any such property should send a written expression of interest to HHS, addressed to Brian Rooney, Division of Property Management, Program Support Center, HHS, room 5B-41, 5600 Fishers Lane, Rockville, MD 20857; (301) 443-2265. (This is not a toll-free number.) HHS will mail to the interested provider an application packet, which will include instructions for completing the application. In order to maximize the opportunity to utilize a suitable property, providers should submit their written expressions of interest as soon as possible. For complete details concerning the processing of applications, the reader is encouraged to refer to the interim rule governing this program, 24 CFR part 581.

For properties listed as suitable/to be excess, that property may, if subsequently accepted as excess by GSA, be made available for use by the homeless in accordance with applicable law, subject to screening for other Federal use. At the appropriate time, HUD will publish the property in a Notice showing it as either suitable/available or suitable/unavailable.

For properties listed as suitable/unavailable, the landholding agency has decided that the property cannot be declared excess or made available for us to assist the homeless, and the property will not be available.

Properties listed as unsuitable will not be made available for any other purpose for 20 days from the date of this Notice. Homeless assistance providers interested in a review by HUD of the determination of unsuitability should call the toll free information line at 1-800-927-7588 for detailed instructions or write a letter to Clifford Taffet at the address listed at the beginning of this Notice. Included in the request for review should be the property address (including zip code), the date of publication in the Federal Register, the landholding agency, and the property number.

For more information regarding particular properties identified in this Notice (i.e., acreage, floor plan, existing sanitary facilities, exact street address), providers should contact the appropriate landholding agencies at the following addresses: ARMY: Mr. Jeff Holste, Military Programs, U.S. Army Corps of Engineers, Installation Support Center, Planning Branch, 441 G Street, Washington, DC 20314-1000; (202) 761-5737; GSA: Mr. Brian K. Polly, Assistant Commissioner, General Services Administration, Office of Property Disposal, 18th and F Streets, NW., Washington, DC 20405; (202) 501-0052; (These are not toll-free numbers).

Dated: December 7, 2000.
John D. Garrity,
Director, Office of Special Needs Assistance Programs.

TITLE V. FEDERAL SURPLUS PROPERTY PROGRAM FEDERAL REGISTER REPORT FOR 12/15/00

Suitable/Available Properties

Buildings (by State)

California

Bldg. S251

Army Reserve

6357 Woodly Ave.

Van Nuys Co: Los Angeles CA 91406-6496

Landholding Agency: Army

Property Number: 21200040043

Status: Excess

Comment: 800 sq. ft., needs repair, presence of asbestos, most recent use—storage, off-site use only

Georgia

Bldg. 223

Fort Benning

Ft. Benning Co: Muscogee GA 31905-

Landholding Agency: Army

Property Number: 21200040044

Status: Unutilized

Comment: 0,220 sq. ft., most recent use—gen. purpose

Bldg. 228

Fort Benning

Ft. Benning Co: Muscogee GA 31905-

Landholding Agency: Army

Property Number: 21200040045

Status: Unutilized

Comment: 20,220 sq. ft., most recent use—gen. purpose

Bldg. 2051

Fort Benning

Ft. Benning Co: Muscogee GA 31905-

Landholding Agency: Army

Property Number: 21200040046

Status: Unutilized

Comment: 6077 sq. ft., most recent use—storage

Bldg. 2053

Fort Benning

Ft. Benning Co: Muscogee GA 31905-

Landholding Agency: Army

Property Number: 21200040047

Status: Unutilized

Comment: 14,520 sq. ft., most recent use—storage

Bldg. 2677

Fort Benning

Ft. Benning Co: Muscogee GA 31905-

Landholding Agency: Army

Property Number: 21200040048

Status: Unutilized

Comment: 19,326 sq. ft., most recent use—maint. shop

Bldg. T-339

Fort Riley

Ft. Riley Co: KS 66442-

Landholding Agency: Army

Property Number: 21200040049

Status: Unutilized

Comment: 2243 sq. ft., poor condition, most recent use—maint. shop, off-site use only

Bldg. T-340

Fort Riley

Ft. Riley Co: KS 66442-

Landholding Agency: Army

Property Number: 21200040050

Status: Unutilized

Comment: 3000 sq. ft., poor condition, most recent use—maint. shop, off-site use only

Bldg. T-341

Fort Riley

Ft. Riley Co: KS 66442-

Landholding Agency: Army

Property Number: 21200040051

Status: Unutilized

Comment: 1130 sq. ft., poor condition, most recent use—maint. shop, off-site use only

Bldg. T-342

Fort Riley

Ft. Riley Co: KS 66442-

Landholding Agency: Army

Property Number: 21200040052

Status: Unutilized

Comment: 810 sq. ft., poor condition, most recent use—maint. shop, off-site use only

Bldg. T-343

Fort Riley

Ft. Riley Co: KS 66442-

Landholding Agency: Army

Property Number: 21200040053

Status: Unutilized

Comment: 3912 sq. ft., poor condition, most recent use—maint. shop, off-site use only

Bldg. T-344

Fort Riley

Ft. Riley Co: KS 66442-

Landholding Agency: Army

Property Number: 21200040054

Status: Unutilized

Comment: 9280 sq. ft., poor condition, most recent use—storage, off-site use only

Bldg. T-345

Fort Riley

Ft. Riley Co: KS 66442-

Landholding Agency: Army

Property Number: 21200040055

Status: Unutilized

Comment: 2888 sq. ft., poor condition, most recent use—maint. shop, off-site use only

Bldg. T-348

Fort Riley

Ft. Riley Co: KS 66442-

Landholding Agency: Army

Property Number: 21200040056

Status: Unutilized

Comment: 2888 sq. ft., poor condition, most recent use—maint. bldg., off-site use only

Bldg. T-351

Fort Riley

Ft. Riley Co: KS 66442-

Landholding Agency: Army

Property Number: 21200040057

Status: Unutilized

Comment: 7595 sq. ft., poor condition, most recent use—maint. bldg., off-site use only

Missouri

Bldg. 1178

Fort Leonard Wood

Ft. Leonard Wood Co: MO 65473-8994

Landholding Agency: Army

Property Number: 21200040058

Status: Unutilized

Comment: 3203 sq. ft., most recent use—fire station, off-site use only

New Mexico

9 MFH Units

White Sands Missile Range

White Sands Co: Dona Ana NM88002-

Location: 11201, 12210, 11214, 11217, 11220, 11223, 11244, 11247, 11264

Landholding Agency: Army

Property Number: 21200040062

Status: Unutilized

Comment: 1620 sq. ft. each, major repairs required, presence of asbestos, most recent use—housing, off-site use only

19 MFH Units

White Sands Missile Range

White Sands Co: Dona Ana NM88002-

Location: 11202, 12209, 11212, 11216, 11219, 11222, 11224, 11227, 11236, 11241, 11242, 11245, 11249, 11253, 11257, 11260, 11263, 11270, 11273

Landholding Agency: Army

Property Number: 21200040063

Status: Unutilized

Comment: 1606 sq. ft. each, major repairs required, presence of asbestos, most recent use—housing, off-site use only

34 MFU Units

White Sands Missile Range

White Sands Co: Dona Ana NM 88002-

Landholding Agency: Army

Property Number: 21200040064

Status: Unutilized

Comment: 1512 sq. ft. each, major repairs required, presence of asbestos, most recent use—housing, off-site use only

12 MFU Units

White Sands Missile Range

White Sands Co: Dona Ana NM 88002-

Location: 11204, 11207, 11226, 11229, 11232, 11235, 11238, 11251, 11255, 11258, 11261, 11266

Landholding Agency: Army

Property Number: 21200040065

Status: Unutilized

Comment: 1590 sq. ft. each, major repairs required, presence of asbestos, most recent use—housing, off-site use only

Bldg. 23644

White Sands Missile Range

White Sands Co: Dona Ana NM 88002-

Landholding Agency: Army

Property Number: 21200040066

Status: Unutilized

Comment: 80 sq. ft., poor condition, presence of asbestos, most recent use—equip. facility, off-site use only

New York

Bldgs. 109, 110

Fort Hamilton

Brooklyn Co: NY 11252-

Landholding Agency: Army

Property Number: 21200040067

Status: Unutilized

Comment: 39,723 sq. ft., needs repair, presence of asbestos, most recent use—guest house, off-site use only

Bldg. T-270

Fort Drum

Ft. Drum Co: Jefferson NY 13602-

Landholding Agency: Army

Property Number: 21200040068

Status: Unutilized

Comment: 2510 sq. ft., needs repair, most recent use—dining facility, off-site use only

Bldg. T-2276

Fort Drum

Ft. Drum Co: Jefferson NY 13602-

Landholding Agency: Army

Property Number: 21200040069

Status: Unutilized

Comment: 5310 sq. ft., needs repair, most recent use—officer's quarters, off-site use only

300 acres

U.S. Military Academy

Highlands Co: Orange NY 10996-1592

Landholding Agency: Army

Property Number: 21200040070

Status: Unutilized

Comment: Approx. 300 acres, contains wetlands and rare flora.

Missouri

Bldg. 2172

Fort Leonard Wood

Ft. Leonard Wood Co: Pulaski MO 65473-8994

Landholding Agency: Army

Property Number: 21200040059

Status: Unutilized

Comment: 2892 sq. ft., most recent use—operations, off-site use only

Bldg. 5041

Fort Leonard Wood

Ft. Leonard Wood Co: Pulaski MO 65473-8994

Landholding Agency: Army

Property Number: 21200040060

Status: Unutilized

Comment: 1000 sq. ft., most recent use—classroom, off-site use only

Bldg. 5286

Fort Leonard Wood

Ft. Leonard Wood Co: Pulaski MO 65473-8994

Landholding Agency: Army

Property Number: 21200040061

Status: Unutilized

Comment: 1000 sq. ft., most recent use—range support bldg., off-site use only

Washington

Ft. Lawton Comsite

California Ave.

Seattle Co: King WA

Landholding Agency: GSA

Property Number: 54200040009

Status: Excess

Comment: 2000 sq. ft. of flammable or explosive material

GSA Number: 9-C-WA-1189

Land (by State)

Massachusetts

USCG Loran Station

Siasconset Co: Nantucket MA 02564-0880

Landholding Agency: GSA

Property Number: 54200040008

Status: Excess

Reason: Within 2000 ft. of flammable or explosive material

GSA Number: 1-U-MA-858

[FR Doc. 00-31654 Filed 12-14-00; 8:45 am]

BILLING CODE 4210-29-M